DEPARTMENT OF HEALTH AND HUMAN SERVICES

Administration for Children and Families

Proposed Information Collection Activity; Comment Request Proposed Project

Title: Building Strong Families (BSF) Demonstration and Evaluation—Impact Study Second Follow-up.

OMB No.: New Collection.

Description: The Administration for Children and Families (ACF), U.S. Department of Health and Human Services (HHS), is proposing a data collection activity as part of the Building Strong Families (BSF) Demonstration and Evaluation. The proposed collection will consist of two elements: (1) A telephone survey to be administered to both partners in couples enrolled in the BSF research sample about 36 months after enrollment, and (2) observational assessments of BSF families and their children.

These data collections are part of the BSF evaluation, which is an important opportunity to learn if well-designed interventions can help low-income couples develop the knowledge and relationship skills that research has shown are associated with healthy marriages. BSF programs provide instruction and support to improve marriage and relationship skills and enhance couples' understanding of marriage. In addition, BSF programs provide links to a variety of other services that could help couples sustain a healthy relationship (e.g., employment assistance). The BSF evaluation uses an experimental design that randomly assigns couples who volunteer to participate in BSF programs to a program or to a control group.

The 36-month data collection effort draws heavily from the 15-month survey conducted in BSF sites. Materials for the 15-month data collection effort were previously submitted to OMB and were approved under OMB Control No. 0970-0304.

Respondents: The respondents for the telephone questionnaire will be all couples in the BSF evaluation. The respondents for the observational assessments will be a sub-sample of children of the couples.

Annual Burden Estimates
Instrument | Annual number of respondents | Number of responses per respondent | Average burden hours per response | Estimated annual burden hours
36-month telephone survey (female partner) | 2,099 | 1 | .9166666 (55 minutes) | 1,924
36-month telephone survey (male partner) | 1,978 | 1 | .8333333 (50 minutes) | 1,648
Child/family observations | 1,125 | 1 | .6666666 (40 minutes) | 750

Estimated Total Annual Burden Hours: 4,322.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: November 26, 2007.
Brendan C. Kelly,
OPRE Reports Clearance Officer.

[FR Doc. 07-5916 Filed 12-03-07; 8:45 am]

BILLING CODE 4184-01-M